SECURITIES AND EXCHANGE COMMISSION

17 CFR Parts 229, 230, 240, and 249

[Release No. 34-88365A; File No. S7-06-19]

RIN 3235-AM41

Accelerated Filer and Large Accelerated Filer Definitions; Correction

AGENCY: Securities and Exchange Commission.

ACTION: Final rule; correction.

SUMMARY: The Securities and Exchange Commission published a document in the Federal Register of March 26, 2020 (85 FR 17178) adopting amendments to the accelerated filer and large accelerated filer definitions. There was a typographical error in an example provided in the Supplementary Information section of that document.

DATES: Effective April 9, 2020.

FOR FURTHER INFORMATION CONTACT: John Fieldsend, Special Counsel, in the Division of Corporation Finance, at (202) 551-3430, U.S. Securities and Exchange Commission, 100 F Street NE, Washington, DC 20549-3628.

SUPPLEMENTARY INFORMATION:

In FR Doc. 2020-05546, on page 17193 in the Federal Register of Thursday, March 26, 2020, the following corrections are made:

Corrections

In the first column on page 17193, in the eighth line from the bottom of the second paragraph, the date “2020” is corrected to read “2021”. Also, in the first column on page 17193, in the sixth line from the bottom of the second paragraph, the date “2019” is corrected to read “2020”.

Dated: March 30, 2020.
Vanessa A. Countryman,
Secretary.

[FR Doc. 2020-06926 Filed 4-8-20; 8:45 am]

BILLING CODE 8011-01-P